DEPARTMENT OF HEALTH AND HUMAN SERVICES

Centers for Disease Control and Prevention

Make-Up Meetings of the Community Preventive Services Task Force (Task Force)

AGENCY: Centers for Disease Control and Prevention (CDC), Department of Health and Human Services (HHS).

ACTION: Notice of meeting.

SUMMARY: The Centers for Disease Control and Prevention (CDC) announces the next meetings of the Community Preventive Services Task Force (Task Force). These meetings will be make-up sessions for the February 25-26, 2015 Task Force Meeting, which was cancelled due to inclement weather.

The Task Force is an independent, nonpartisan, nonfederal, and unpaid panel. Its members represent a broad range of research, practice, and policy expertise in prevention, wellness, health promotion, and public health, and are appointed by the CDC Director. The Task Force was convened in 1996 by the Department of Health and Human Services (HHS) to identify community preventive programs, services, and policies that increase healthy longevity, save lives and dollars and improve Americans' quality of life. CDC is mandated to provide ongoing administrative, research, and technical support for the operations of the Task Force. During its meetings, the Task Force considers the findings of systematic reviews on existing research, and issues recommendations. Task Force recommendations provide information about evidence-based options that decision makers and stakeholders can consider when determining what best meets the specific needs, preferences, available resources, and constraints of their jurisdictions and constituents. The Task Force's recommendations, along with the systematic reviews of the scientific evidence on which they are based, are compiled in the Guide to Community Preventive Services (Community Guide).

DATES: The meetings will be held on Tuesday, May 19, 2015 from 3 p.m. to 5 p.m. Eastern Time (ET) and Monday, June 1, 2015 from 3 p.m. to 5 p.m. ET.

ADDRESSES: Due to the proximity to the June Task Force Meeting, which will be held in Atlanta, these make-up Task Force Meeting sessions will be held via Webcast and Conference Call. The Webcast will be broadcast from the Centers for Disease Control and Prevention's facility at 1600 Clifton Road, Atlanta, GA 30333. This will only be produced as a Webcast and Conference Call, therefore no accommodations will be provided for in-person participation. There will be a 100 line participation limit on the Conference Call.

Meeting Accessibility: This meeting is available to the public via Webcast and Conference Call. Individuals must RSVP by May 15, 2015 to receive the URL for the presentations via Webcast on the Internet. This includes both audio and video for the presentations. The audio only option will be presented via conference call with 100 lines available. To access the audio via Conference Call, dial 1-877-457-5728 and enter participation code 5412084 when prompted to do so.

FOR FURTHER INFORMATION CONTACT: For more information and to RSVP, contact Onslow Smith, The Community Guide Branch; Division of Public Health Information Dissemination; Center for Surveillance, Epidemiology and Laboratory Services; Office of Public Health Scientific Services; Centers for Disease Control and Prevention, 1600 Clifton Road, MS-E-69, Atlanta, GA 30333, phone: (404) 498-6778, email: CPSTF@cdc.gov.

SUPPLEMENTARY INFORMATION:

Purpose: The purpose of the meeting is for the Task Force to consider the findings of systematic reviews and issue findings and recommendations. Task Force recommendations provide information about evidence-based options that decision makers and stakeholders can consider when determining what best meets the specific needs, preferences, available resources, and constraints of their jurisdictions and constituents.

Matters to be discussed: Topics are subject to change.

May 19th

• Cardiovascular Disease

• Vaccination

June 1st

• Cardiovascular Disease

• Health Equity

• Task Force Prioritization

Dated: May 8, 2015.
Ron A. Otten,
Acting Deputy Associate Director for Science, Centers for Disease Control and Prevention.

[FR Doc. 2015-11617 Filed 5-11-15; 11:15 am]

BILLING CODE 4163-18-P